DEPARTMENT OF COMMERCE

International Trade Administration

[A-484-804]

Common Alloy Aluminum Sheet From Greece: Final Negative Determination of Sales at Less Than Fair Value

AGENCY: Enforcement and Compliance, International Trade Administration, Department of Commerce.

SUMMARY: The Department of Commerce (Commerce) determines that imports of common alloy aluminum sheet (aluminum sheet) from Greece are not being, or are not likely to be, sold in the United States at less than fair value (LTFV). The period of investigation (POI) is January 1, 2019, through December 31, 2019.

DATES: Applicable March 8, 2021.

FOR FURTHER INFORMATION CONTACT: Samantha Kinney or Brian Smith, AD/CVD Operations, Office VIII, Enforcement and Compliance, International Trade Administration, U.S. Department of Commerce, 1401 Constitution Avenue NW, Washington, DC 20230; telephone: (202) 482-2285 or (202) 482-1766, respectively.

SUPPLEMENTARY INFORMATION:

Background

On October 15, 2020, Commerce published in the Federal Register its preliminary affirmative determination in the LTFV investigation of aluminum sheet from Greece, in which we also postponed the final determination until March 1, 2021.¹ We invited interested paties to comment on the Preliminary Determination. A summary of the events that occurred since Commerce published the Preliminary Determination, may be found in the Issues and Decision Memorandum.²

¹ See Common Alloy Aluminum Sheet from Greece: Preliminary Affirmative Determination of Sales at Less Than Fair Value, Postponement of Final Determination, and Extension of Provisional Measures, 85 FR 65374 (October 15, 2020) (Preliminary Determination), and accompanying Preliminary Decision Memorandum (PDM).

² See Memorandum, “Issues and Decision Memorandum for the Final Negative Determination in the Less-Than-Fair-Value Investigation of Common Alloy Aluminum Sheet from Greece,” dated concurrently with, and hereby adopted by, this notice (Issues and Decision Memorandum).

Scope of the Investigation

The product covered by this investigation is aluminum sheet from Greece. For a complete description of the scope of this investigation, see Appendix I.

Scope Comments

During the course of this investigation, Commerce received scope comments from interested parties. Commerce issued a Preliminary Scope Memorandum to address these comments.³ We received comments from interested parties on the Preliminary Scope Decision memorandum, which we address in the Final Scope Decision Memorandum.⁴ Commerce is not modifying the the scope language as it appeared in the Preliminary Determination. See Appendix I for the final scope of the investigation.

³ See Memorandum, “Common Alloy Sheet from Bahrain, Brazil, Croatia, Egypt, Germany, Greece, India, Indonesia, Italy, Rpublic of Korea, Oman, Romania, Serbia, Slovenia, South Africa, Spain, Taiwan, and Turkey: Scope Comments Decision Memorandum for the Preliminary Determinations,” dated October 6, 2020 (Preliminary Scope Memorandum).

⁴ See Memorandum, “Common Alloy Aluminum Sheet from Bahrain, Brazil, Croatia, Egypt, Germany, Greece, India, Indonesia, Italy, Korea, Oman, Romania, Serbia, Slovenia, South Africa, Spain, Taiwan, and Turkey: Scope Comments Final Decision Memorandum,” dated concurrently with, and hereby adopted by, this notice (Final Scope Decision Memorandum).

Analysis of Comments Received

All issues raised in the case and rebuttal briefs that were submitted by parties in this investigation are addressed in the Issues and Decision Memorandum. A list of the issues addressed in the Issues and Decision Memorandum is attached at Appendix II. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn. The signed and electronic versions of the Issues and Decision Memorandum are identical in content.

Verification

Commerce was unable to conduct on-site verification of the information relied upon in making its final determination in this investigation. However, we took additional steps in lieu of an on-site verification to verify the information relied upon in making this final determination, in accordance with section 782(i) of the Tariff Act of 1930, as amended (the Act).⁵

⁵ See Commerce's Letter, “Antidumping Investigation Common Alloy Aluminum Sheet from Greece: Elvalhalcor Hellenic Copper and Aluminum Industry S.A. In Lieu of Verification Questionnaire,” dated December 11, 2020; see also Elvalhalcor's Letter, “Antidumping Investigation of Common Alloy Aluminum Sheet from Greece: Elvalhalcor's Response to In Lieu of Verification Questionnaire Response,” dated December 21, 2020.

Changes Since the Preliminary Determination

Based on our analysis of the comments received and our findings related to our request for information in lieu of verification, we made certain changes to the margin calculations for Elval Hellenic Aluminum Industry S.A (Elvalhalcor). For a discussion of these changes, see the “Changes from the Preliminary Determination” section of the Issues and Decision Memorandum.

Final Determination of No Shipments

Commerce preliminarily determined that Argiropoulos B.A.E.E. (Argiropoulos) had no shipments of the subject merchandise to the United States during the POI.⁶ There is no new information on the record that would cause us to revisit our determination of no shipments for this company. Accordingly, Commerce will issue appropriate instructions to U.S. Customs and Border Protection (CBP).

⁶ See Preliminary Determination PDM at 5.

Final Determination

The final estimated weighted-average dumping margin is as follows:

Exporter/producer | Estimated weighted-average dumping margin (percent)
Elval Hellenic Aluminum Industry S.A./ Elval Colour S.A./Symetal S.A. ⁷ | 0.00

Because the only weighted-average dumping margin is zero, we determine that aluminum sheet from Greece is not being, or is not likely to be, sold in the United States at LTFV. Commerce has not calculated an estimated weighted-average dumping margin for all other producers and exporters pursuant to sections 735(c)(1)(B) and (c)(5) of the Act because it has not made a final affirmative determination of sales at LTFV.

⁷ Commerce determined that Elval Hellenic Aluminum Industry S.A., Elval Colour S.A. and Symetal S.A. are a single entity. See Preliminary Determination PDM.

Disclosure

We intend to disclose the calculations performed in this final determination within five days of the date of publication of this notice to parties in this proceeding in accordance with 19 CFR 351.224(b).

Suspension of Liquidation

In the Preliminary Determination, Commerce determined a weighted-average dumping margin for Elvalhalcor that was above de minimis . Therefore, we instructed CBP to suspend liquidation of entries of aluminum sheet from Greece as of October 15, 2020, the date of publication of the Preliminary Determination.⁸ Because Commerce has made a final negative determination of sales at LTFV with regard to the subject merchandise, Commerce will instruct CBP to terminate suspension of liquidation and refund any cash deposits of estimated antidumping duties for entries of aluminum sheet from Greece.

⁸ See Preliminary Determination, 85 FR at 65375.

International Trade Commission Notification

In accordance with section 735(d) of the Act, we will notify the International Trade Commission of our final determination. As our final determination is negative, this proceeding is terminated in accordance with section 735(c)(2) of the Act.

Notification Regarding Administrative Protective Orders

This notice will serve as a reminder to the parties subject to administrative protective order (APO) of their responsibility concerning the disposition of proprietary information disclosed under APO in accordance with 19 CFR 351.305(a)(3). Timely written notification of return or destruction of APO materials or conversion to judicial protective order is hereby requested. Failure to comply with the regulations and terms of an APO is a violation which is subject to sanction.

Notification to Interested Parties

This determination is issued and published in accordance with sections 735(d) and 777(i)(1) of the Act, and 19 CFR 351.210(c).

Dated: March 1, 2021.
Christian Marsh,
Acting Assistant Secretary for Enforcement and Compliance.

Appendix I—Scope of the Investigation

The products covered by this investigation are common alloy aluminum sheet, which is a flat-rolled aluminum product having a thickness of 6.3 mm or less, but greater than 0.2 mm, in coils or cut-to-length, regardless of width. Common alloy sheet within the scope of this investigation includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core. The use of a proprietary alloy or non-proprietary alloy that is not specifically registered by the Aluminum Association as a discrete 1XXX-, 3XXX-, or 5XXX-series alloy, but that otherwise has a chemistry that is consistent with these designations, does not remove an otherwise in-scope product from the scope.

Common alloy sheet may be made to ASTM specification B209-14 but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of this investigation if performed in the country of manufacture of the common alloy sheet.

Excluded from the scope of this investigation is aluminum can stock, which is suitable for use in the manufacture of aluminum beverage cans, lids of such cans, or tabs used to open such cans. Aluminum can stock is produced to gauges that range from 0.200 mm to 0.292 mm, and has an H-19, H-41, H-48, H-39, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3096, 7606.12.6000, 7606.91.3095, 7606.91.6095, 7606.92.3035, and 7606.92.6095. Further, merchandise that falls within the scope of this investigation may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of this investigation is dispositive.

Appendix II—List of Topics Discussed in the Issues and Decision Memorandum

I. Summary

II. Background

III. Changes from the Preliminary Determination

IV. Discussion of the Issues

Comment 1: Whether Adverse Facts Available (AFA) is Appropriate for Elvalhalcor

Comment 2: Application of Major Input Rule

Comment 3: Selling Expense Adjustment to the Cost of Manufacture (COM)

Comment 4: Adjusting COM With Amounts Related to Losses on Derivatives

Comment 5: Reconciliation of April 2019 U.S. Sales

Comment 6: Warranty Expenses

Comment 7: Home Market Rebates

Comment 8: Home Market Inland Freight Expenses

Comment 9: Packing Expenses

Comment 10: Comparisons Between Alloy Products

Comment 11: Home Market Credit Expenses

Comment 12: U.S. Indirect Selling Expenses for Sales Through International Trade

Comment 13: Adjustment Made to Other Disounts for Certain Home Market Sales

Comment 14: Use of Quarterly Costs in Differential Pricing Analysis

V. Recommendation

[FR Doc. 2021-04737 Filed 3-5-21; 8:45 am]

BILLING CODE 3510-DS-P